DEPARTMENT OF AGRICULTURE

Rural Housing Service

Rural Business-Cooperative Service

Rural Utilities Service

Farm Service Agency

7 CFR Part 1955

RIN 0575-AC56

Environmental Policies and Procedures; Correction

AGENCY: Rural Business-Cooperative Service, Rural Housing Service, Rural Utilities Service, Farm Service Agency, USDA.

ACTION: Correcting amendment.

SUMMARY: The Rural Business-Cooperative Service, Rural Housing Service, Rural Utilities Service, and Farm Service Agency published a document in the Federal Register on March 2, 2016 (81 FR 11000), entitled “Environmental Policies and Procedures.” The rule replaced two existing rules related to the Agency's procedures for implementing NEPA. This correction will replace the introductory text to paragraph (a) of § 1955.136.

DATES: This rule is effective May 4, 2016.

FOR FURTHER INFORMATION CONTACT: Kellie M. Kubena, Director, Engineering and Environmental Staff, Rural Utilities Service, Stop 1571, 1400 Independence Ave. SW., Washington, DC 20250-1571; email: Kellie.Kubena@wdc.usda.gov; telephone: (202) 720-1649.

SUPPLEMENTARY INFORMATION: The Rural Business-Cooperative Service, Rural Housing Service, Rural Utilities Service, and Farm Service Agency published a document in the Federal Register on March 2, 2016 (81 FR 11000), entitled “Environmental Policies and Procedures.” This correction will replace the introductory text to paragraph (a) of § 1955.136.

List of Subjects in 7 CFR Part 1955

Government acquired property, Government property management, Sale of government acquired property, Surplus government property.

For the reasons set forth in the preamble, chapter XVIII, title 7, Code of Federal Regulations is amended as follows:

PART 1955—PROPERTY MANAGEMENT

1. The authority citation for part 1955 continues to read as follows:

Authority: 5 U.S.C. 301; 7 U.S.C. 1989; 42 U.S.C. 1480.

Subpart C—Disposal of Inventory Property

2. In § 1955.136, revise the section heading and the introductory text of paragraph (a) to read as follows:

§ 1955.136 Environmental review requirements.

(a) Prior to a final decision on some disposal actions, the action must comply with the environmental review requirements in accordance with each agency's environmental policies and procedures. For Farm Service Agency actions the environmental policies and procedures are found in subpart G of part 1940 of this chapter and for Rural Development programs the environmental policies and procedures are found in 7 CFR part 1970. Assessments must be made for those proposed conveyances that meet one of the following criteria:

* * * * *

April 20, 2016.
Lisa Mensah,
Under Secretary, Rural Development.
April 26, 2016.
Alexis Taylor,
Deputy Under Secretary, Farm and Foreign Agricultural Services.

[FR Doc. 2016-10377 Filed 5-3-16; 8:45 am]

BILLING CODE 3410-XV-P